DEPARTMENT OF HEALTH AND HUMAN SERVICES

Agency for Toxic Substances and Disease Registry

Statement of Organization, Functions, and Delegations of Authority

Part T (Agency for Toxic Substances and Disease Registry) of the Statement of Organization, Functions, and Delegations of Authority of the Department of Health and Human Services (50 FR 25129-25130, dated June 17, 1985, as amended most recently at 70 FR 59350, dated October 12, 2005) is amended to reflect the reorganization of the Agency for Toxic Substances and Disease Registry (ATSDR).

Section T-B, Organization and Functions, is hereby amended as follows:

Delete in its entirety the title and functional statements for the Program Services Activity (TV612), Division of Health Assessment and Consultation (TB6).

Delete in its entirety the functional statement for the Community Involvement Branch (TB67), and insert the following:

Health Promotion and Community Involvement Branch (TB67). (1) Plans, directs, coordinates and implements the division's health promotion and community involvement program; communicates ATSDR's roles and responsibilities to communities and tribes; and, provides technical advice, guidance and support on site-specific community involvement and participation to the division, and to other agency entities upon request; (2) participates in the design, implementation, and impact evaluation of health promotion interventions at sites at the individual and community level to mitigate health effects from potential and actual exposures; provides leadership in using the best available science for health promotion products and activities in communities; advocates for public health promotion in support of community concerns and needs; (3) plans, designs and implements strategies for engaging (site entry) in site-specific community and tribal public health activities and, upon completion of activities strategies for disengagement; (4) provides leadership in developing, managing, and implementing the health education component of the ATSDR's state-based cooperative agreement program with external partners; ensures that the technical and administrative requirements of the health education component of the program are met; (5) provides leadership in establishing linkages between communities and technical and science staff; where appropriate, maintains and coordinates community contact; maintains database of site-specific community concerns and needs and actions taken to respond; and, advocates for the public health needs of the community and serves to mediate and assist in resolving areas of dispute or conflict; (6) in activities that involve communities, tribes, tribal governments and tribal organizations, collaborates with ATSDR programs to ensure cultural awareness and respect are observed and practiced.

Delete in its entirety the titles and functional statements for the Division of Health Education and Promotion (TB7)

Delete in its entirety the titles and functional statements for the Division of Toxicology (TB9) and inserting the following:

Division of Toxicology and Environmental Medicine (TB9). (1) Develops and applies innovative research methods to expand knowledge of the relationship between exposure to hazardous substances and adverse human health effects; (2) coordinates all activities associated with toxicological profiles including associated research; (3) develops and applies science-based health educational tools, methods and strategies to deliver messages, education, and training; (4) develops educational materials in support of environmental medicine; (5) provides expertise and service to site-specific activities across ATSDR including chemical-specific consultations as needed; (6) provides technical expertise and site specific support in addressing the health issues presented by emergency or acute release events and threatened releases of hazardous materials; (7) coordinates agency toxicology and environmental medicine activities with the Environmental Protection Agency, National Toxicology Program, and other appropriate federal, state, local, or public programs.

Applied Toxicology Branch (TB94). (1) Provides scientific expertise for the development of toxicological information and disseminates educational information in multiple formats; (2) develops and disseminates toxicological profiles; (3) develops, implements, and coordinates a program of research designed to identify priority data needs and determine the health effects of those data needs for various hazardous substances; (4) works as an integral partner with other division branches to ensure that toxicological activities incorporate environmental medicine and emergency preparedness perspectives into their basic message; (5) coordinates toxicological information and research activities with the Environmental Protection Agency, the National Toxicology Program, the Interagency Testing Committee, other appropriate federal, state, and local programs, and other public and private concerns, as appropriate.

Prevention, Response and Medical Support Branch (TB95). (1) Provides technical expertise and site specific support in addressing the health issues presented by emergency or acute release events and threatened releases of hazardous materials; (2) conducts special priority setting and evaluation activities; (3) provides technical expertise to conduct special evaluation activities necessary for support of division programs; (4) provides infrastructure to support planning and evaluation activities for the toxicology programs of the division; (5) works within the National Response Program and CDC guidelines to collaborate with other federal, state, and local agencies during emergency response situations; (6) develops information resources and guidance for first responders and health care providers for use in responding to unplanned release and spills; (7) works as an integral partner with other division branches to ensure that environmental medicine activities incorporate toxicological and emergency preparedness perspectives into their basic message.

Environmental Medicine and Educational Services Branch (TB96). (1) Establishes program goals and objectives for health education and environmental medicine practices; (2) develops and applies science-based health education strategies, services, and tools to deliver key messages, education, and training to state public health partners, other public health partners, health professionals, and community groups to improve environmental health outcomes at the local, state, and national levels; (3) coordinates and facilitates practice development in environmental medicine across ATSDR divisions and offices; (4) develops educational materials in support of health education and environmental medicine; (5) provides leadership in development, implementation, and evaluation of internal and external professional health education and environmental medicine activities; and (6) provides expertise and service to site-specific activities across ATSDR.

Dated: November 28, 2005.
William H. Gimson,
Chief Operating Officer, Centers for Disease Control and Prevention (CDC).

[FR Doc. 05-23688 Filed 12-6-05; 8:45 am]

BILLING CODE 4160-70-M